COMMISSION ON CIVIL RIGHTS

Sunshine Act Meeting

AGENCY: Commission on Civil Rights.

Date and Time: Friday, February 20, 2004, 8:30 a.m.

Place: Hotel Monaco, 1101 Fourth Avenue, Seattle, WA 98101.

Status:

Agenda

I. Approval of Agenda

II. Approval of Minutes of January 9, 2004 Meeting

III. Announcements

IV. Staff Director's Report

V. Program Planning

VI. Presentations from Alaska, Hawaii, Idaho, Oregon, and Washington State Advisory Committee Chairpersons

VII. Presentations from Individuals and Organizational Representatives on Civil Rights Issues Facing the Pacific Northwest

VIII. Future Agenda Items

FOR FURTHER INFORMATION CONTACT: Les Jin, Press and Communications (202) 376-7700.

Debra A. Carr,
Deputy General Counsel.

[FR Doc. 04-3378 Filed 2-11-04; 1:13 pm]

BILLING CODE 6335-01-M